DEPARTMENT OF COMMERCE

International Trade Administration

[A-570-932]

Certain Steel Threaded Rod From the People's Republic of China: Final Results of Antidumping Duty Administrative Review; 2015-2016

AGENCY: Enforcement and Compliance, International Trade Administration, Department of Commerce.

SUMMARY: On May 5, 2017, the Department of Commerce (the Department) published the preliminary results of the administrative review of the antidumping duty order on certain steel threaded rod from the People's Republic of China (PRC) for the period of review (POR), April 1, 2015, through March 31, 2016. For the final results of this review, the Department finds that Jiaxing Brother Fastener Co., Ltd., RMB Fasteners Ltd., and IFI & Morgan Ltd. (RMB/IFI) had a single shipment, and Tianjin Port Free Trade Zone and Star Pipe International Trade Co., Ltd. (Tianjin Star) is eligible for a separate rate.

DATES: Applicable November 7, 2017.

FOR FURTHER INFORMATION CONTACT: Courtney Canales or Matthew Renkey, AD/CVD Operations, Office V, Enforcement and Compliance, International Trade Administration, U.S. Department of Commerce, 1401 Constitution Avenue NW., Washington, DC 20230; telephone: (202) 482-4997 or (202) 482-2312, respectively.

SUPPLEMENTARY INFORMATION:

Background

On May 5, 2017, the Department published the Preliminary Results of the antidumping duty order on certain steel threaded rod from the PRC.¹ On June 12, 2017, the petitioner submitted case briefs.² On June 16, 2017 the Department released draft U.S. Customs and Border Protection (CBP) instructions.³ On June 21, 2017, RMB/IFI and Tianjin Star submitted rebuttal briefs.⁴ On September 1, 2017, the Department extended the deadline for the final results to November 1, 2017.⁵

¹ See Certain Steel Threaded Rod from the People's Republic of China: Preliminary Results of the Antidumping Duty Administrative Review, and Rescission of Antidumping Duty Administrative Review; 2014-2015, 82 FR 21189 (May 5, 2017) (Preliminary Results) and accompanying Preliminary Decision Memorandum.

² See the petitioner's June 12, 2017 submission.

³ See Memo to the File, from Courtney Canales, International Trade Compliance Analyst, “Certain Steel Threaded Rod from the People's Republic of China: Cash Deposit and Liquidation Instructions for the Preliminary Results,” dated June 16, 2017.

⁴ See RMB/IFI's June 21, 2017 submission; Tianjin Star's June 21, 2017 submission.

⁵ See Memorandum to Scot T. Fullerton, Director, Office VI, from Courtney Canales, International Trade Compliance Analyst, “Certain Steel Threaded Rod from the People's Republic of China: Extension of Deadline for Final Results of Antidumping Duty Administrative Review,” dated September 1, 2017.

We note that no party submitted comments on the Department's preliminary determination to treat Zhejiang New Oriental Fastener Co., Ltd. (New Oriental), Zhejiang Heiter Industries Co., Ltd. (Heiter Industries), and Zhejiang Heiter Mfg. & Trade Co. Ltd. (Heiter Mfg. as part of the PRC-wide entity. Therefore, for these final results, we continue to find that New Oriental, Heiter Industries, and Heiter Mfg. are part of the PRC-wide entity. We also note that no party submitted comments on the draft CBP instructions.

The Department conducted this administrative review in accordance with section 751 of the Tariff Act of 1930, as amended (the Act).

Scope of the Order

The merchandise covered by the order includes steel threaded rod. The subject merchandise is currently classifiable under subheading 7318.15.5051, 7318.15.5056, 7318.15.5090, and 7318.15.2095 of the United States Harmonized Tariff Schedule (HTSUS). Although the HTSUS subheadings are provided for convenience and customs purposes, our written description of the scope of the order, which is contained in the accompanying Issues and Decision Memorandum (I&D Memo), is dispositive.⁶

⁶ For a full description of the scope of the order, see Memorandum from James Maeder Senior Director, performing the duties of Deputy Assistant Secretary for Antidumping and Countervailing Duty Operations, to Gary Taverman, Deputy Assistant Secretary for Antidumping and Countervailing Duty Operations, performing the non-exclusive functions and duties of the Assistant Secretary for Enforcement and Compliance, “Certain Steel Threaded Rod from the People's Republic of China: Issues and Decision Memorandum for the Final Results of the Seventh Administrative Review” (November 1, 2017) (I&D Memo).

Analysis of Comments Received

We addressed all issues raised in the case and rebuttal briefs by parties in this review in the I&D Memo dated concurrently with, and hereby adopted by, this notice. A list of the issues which parties raised is attached in the Appendix to this notice. The I&D Memo is a public document and is on file in the Central Records Unit (CRU), Room B8024 of the main Department of Commerce building, as well as electronically via Enforcement and Compliance's Antidumping and Countervailing Duty Centralized Electronic Service System (ACCESS). ACCESS is available to registered users at http://access.trade.gov and in the CRU. In addition, a complete version of the I&D Memo can be accessed directly on the internet at http://enforcement.trade.gov/frn/index.html. The signed I&D Memo and the electronic versions of the I&D Memo are identical in content.

Final Results

The final weighted-average dumping margins are as follows:

Exporter/producer | Weighted- average dumping margin (percent)
RMB Fasteners Ltd. and IFI & Morgan Ltd. (RMB/IFI) | 0.00
Tianjin Port Free Trade Zone Tianjin Star International Trade Co., Ltd | 5.40

Because no party requested a review of the PRC-wide entity, and the Department no longer considers the PRC-wide entity as an exporter conditionally subject to administrative reviews,⁷ we did not conduct a review of the PRC-wide entity. Thus, the weighted-average dumping margin for the PRC-wide entity (i.e., 206.00 percent) ⁸ is not subject to change as a result of this review.

⁷ See Antidumping Proceedings: Announcement of Change in Department Practice for Respondent Selection in Antidumping Duty Proceedings and Conditional Review of the Nonmarket Economy Entity in NME Antidumping Duty Proceedings, 78 FR 65963, 65969-70 (November 4, 2013).

⁸ The rate for the PRC-wide entity was originally set in the original investigation, see Certain Steel Threaded Rod from the People's Republic of China: Final Determination of Sales at Less than Fair Value, 74 FR 8907 (February 27, 2009). This rate has been applied in each subsequent administrative review in which there was a party being considered as part of the PRC-wide entity.

Assessment Rates

Pursuant to section 751(a)(2)(A) of the Act, and 19 CFR 351.212(b), the Department has determined, and U.S. Customs and Border Protection (CBP) shall assess, antidumping duties on all appropriate entries of subject merchandise in accordance with the final results of this review. The Department intends to issue appropriate assessment instructions directly to CBP 15 days after publication of the final results of this administrative review.

Where the respondent reported reliable entered values, we calculated importer (or customer)-specific ad valorem rates by aggregating the dumping margins calculated for all U.S. sales to each importer (or customer) and dividing this amount by the total entered value of the sales to each importer (or customer).⁹ Where the Department calculated a weighted-average dumping margin by dividing the total amount of dumping for reviewed sales to that party by the total sales quantity associated with those transactions, the Department will direct CBP to assess importer-specific assessment rates based on the resulting per-unit rates.¹⁰ Where an importer- (or customer-) specific ad valorem or per-unit rate is greater than de minimis, the Department will instruct CBP to collect the appropriate duties at the time of liquidation.¹¹ Where an importer- (or customer-) specific ad valorem or per-unit rate is zero or de minimis, the Department will instruct CBP to liquidate appropriate entries without regard to antidumping duties.¹²

⁹ See 19 CFR 351.212(b)(1).

¹⁰ Id.

¹¹ Id.

¹² See 19 CFR 351.106(c)(2).

Pursuant to the Department's assessment practice, for entries that were not reported in the U.S. sales data submitted by companies individually examined during this review, the Department will instruct CBP to liquidate such entries at the rate for the PRC-wide entity.¹³

¹³ See Non-Market Economy Antidumping Proceedings: Assessment of Antidumping Duties, 76 FR 65694 (October 24, 2011) (Reseller Policy).

For the one suspended AD/CVD entry for which RMB/IFI had knowledge of sale in the United States, the Department will direct CBP to liquidate that entry without regard to antidumping duties. For all other entries claiming RMB/IFI as the exporter or producer, the Department will direct CBP to liquidate such entries and to assess antidumping duties pursuant to the Reseller Policy, i.e., at the rate for the PRC-wide entity. For all suspended AD/CVD entries by Tianjin Star, the Department will direct CBP to liquidate such entries and to assess antidumping duties at the rate identified in the Final Results section above.

Cash Deposit Requirements

The following cash deposit requirements will be effective upon publication of the final results of this administrative review for all shipments of the subject merchandise from the PRC entered, or withdrawn from warehouse, for consumption on or after the publication date, as provided for by section 751(a)(2)(C) of the Act: (1) For the exporters listed above, the cash deposit rate will be the rate established in the final results of review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-Wide rate of 206 percent; and (4) for all non-PRC exporters of subject merchandise which have not received their own rate, the cash deposit rate will be the rate applicable to the PRC exporters that supplied that non-PRC exporter. These deposit requirements, when imposed, shall remain in effect until further notice.

Disclosure

Normally, the Department discloses to interested parties the calculations performed in connection with the final results within five days of its public announcement, or if there is no public announcement, within five days of the date of publication of this notice in accordance with 19 CFR 351.224(b). However, because the Department has not calculated a weighted-average dumping margin for either of the mandatory respondents, there are no calculations to disclose.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a violation subject to sanction.

Notification to Interested Parties

We are issuing and publishing these results in accordance with sections 751(a)(1) and 777(i)(1) of the Act and 19 CFR 351.213(h) and 351.221(b)(5).

Dated; November 1, 2017.
Gary Taverman,
Deputy Assistant Secretary for Antidumping and Countervailing Duty Operations, performing the non-exclusive functions and duties for the Assistant Secretary for Enforcement and Compliance.

Appendix

Issues and Decision Memorandum

I. Summary

II. Scope

III. Background

IV. Discussion of the Issues

Comment 1: Circumvention Concerns and Treatment of RMB/IFI

Comment 2: Proper Classification and Collection of Antidumping Duties on Tianjin Star's Entries

V. Conclusion

[FR Doc. 2017-24178 Filed 11-6-17; 8:45 am]

BILLING CODE 3510-DS-P